DEPARTMENT OF COMMERCE

International Trade Administration

[C-122-839]

Certain Softwood Lumber Products From Canada: Extension of Time Limit for Preliminary Determination in Countervailing Duty Investigation

AGENCY: Import Administration, International Trade Administration, Department of Commerce.

ACTION: Notice of extension of time limit for preliminary determination in countervailing duty investigation.

SUMMARY: The Department of Commerce is extending the time limit of the preliminary determination in the countervailing duty (CVD) investigation of certain softwood lumber products from Canada from June 27, 2001 until no later than July 27, 2001. This extension is made pursuant to section 703(c)(1)(B) of the Tariff Act of 1930, as amended by the Uruguay Round Agreements Act.

EFFECTIVE DATE: June 11, 2001.

FOR FURTHER INFORMATION CONTACT: Tipten Troidl at 202-482-1767 or Eric B. Greynolds at 202-482-6071, Office of AD/CVD Enforcement VI, Group II, Import Administration, International Trade Administration, U.S. Department of Commerce, 14th Street and Constitution Ave, NW., Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the regulations codified at 19 CFR part 351 (2001).

Extension of Due Date for Preliminary Determination

On April 23, 2001, the Department of Commerce (the Department) initiated the CVD investigation of certain softwood lumber products from Canada. See Notice of Initiation of Countervailing Duty Investigation: Certain Softwood Lumber Products from Canada, 66 FR 21332 (April 30, 2001). Currently, the preliminary determination is due no later than June 27, 2001. However, pursuant to section 703(c)(1)(B) of the Act, we have determined that this investigation is “extraordinarily complicated” and are therefore extending the due date for the preliminary determination by 30 days to no later than July 27, 2001.

Under section 703(c)(1)(B), the Department can extend the period for reaching a preliminary determination until not later than the 130th day after the date on which the administering authority initiates an investigation if:

(B) The administering authority concludes that the parties concerned are cooperating and determines that

(i) The case is extraordinarily complicated by reason of

(I) The number and complexity of the alleged countervailable subsidy practices;

(II) The novelty of the issues presented;

(III) The need to determine the extent to which particular countervailable subsidies are used by individual manufacturers, producers, and exporters; or

(IV) The number of firms whose activities must be investigated; and

(ii) Additional time is necessary to make the preliminary determination.

We find that all concerned parties are cooperating. Moreover, we find that this case is extraordinarily complicated because of the number of alleged programs, and the complexity of each program. As a consequence, we determine that additional time is necessary to complete the preliminary determination. Therefore, pursuant to section 703(c)(1)(B) of the Act, we are postponing the preliminary determination in this investigation to no later than July 27, 2001.

This notice is issued and published pursuant to section 703(c)(2) of the Act.

Dated: June 5, 2001.
Faryar Shirzad,
Assistant Secretary for Import Administration.

[FR Doc. 01-14794 Filed 6-11-01; 8:45 am]

BILLING CODE 3510-DS-P